OFFICE OF THE UNITED STATES TRADE REPRESENTATIVE

[Docket No. USTR-2008-0036]

Delay in Modification of Action Taken in Connection With WTO Dispute Settlement Proceedings on the European Communities' Ban on Imports of U.S. Beef and Beef Products

AGENCY: Office of the United States Trade Representative.

ACTION: Notice and modification of action.

SUMMARY: On January 15, 2009, the United States Trade Representative (‘Trade Representative’) announced modifications (‘January 15 modifications’) to the action taken in July 1999 in connection with the World Trade Organization (“WTO”) authorization to the United States in the EC-Beef Hormones dispute to suspend concessions and related obligations with respect to the European Communities (“EC”). See 74 FR 4265 (Jan. 23, 2009). The January 15 modifications had an effective date of March 23, 2009. In order to allow additional time to reach agreement with the EC on an interim solution that would provide benefits to the U.S. beef industry, the Trade Representative has decided to delay for one month (until April 23, 2009) the effective date of the additional duties imposed under the January 15 modifications. The effective date of the removal of duties under the January 15 modifications will remain March 23, 2009.

Effective Date: As set out in Annex I to this notice, the removal of duties on items deleted from the product list under the January 15 modifications shall be effective with respect to products that are entered, or withdrawn from warehouse, for consumption on or after March 23, 2009. As set out in Annex II to this notice, the additional duties under the January 15 modifications shall be effective with respect to products that are entered, or withdrawn from warehouse, for consumption on or after April 23, 2009.

FOR FURTHER INFORMATION CONTACT: Roger Wentzel, Director, Agricultural Affairs, (202) 395-6127 or David Weiner, Director for the European Union, (202) 395-4620 for questions concerning the EC-Beef Hormones dispute; or William Busis, Associate General Counsel and Chair of the Section 301 Committee, (202) 395-3150, for questions concerning procedures under Section 301.

SUPPLEMENTARY INFORMATION: For background concerning the EC-Beef Hormones WTO dispute and the January 15 modifications, see 74 FR 4265 (Jan. 23, 2009).

In the January 15 modifications, the Trade Representative decided: (1) To remove some products from the list of products currently subject to 100 percent ad valorem duties; (2) to impose 100 percent ad valorem duties on some new products from certain EC member States; (3) to modify the coverage with respect to particular EC member States; and (4) to raise the level of duties on one of the products that is being maintained on the product list.

Pursuant to Section 305 of the Trade Act of 1974, the Trade Representative has determined that a one-month delay (until April 23, 2009) in implementation of certain elements of the January 15 modifications would be desirable to obtain a satisfactory solution with respect to the EC's ban on U.S. beef. The elements to be delayed are: (i) The imposition of increased duties on additional products, (ii) the application to products of additional EC member States of the increased duties on currently covered products, and (iii) the increase in the level of duties on one of the products that is being maintained on the product list. The Trade Representative has not delayed the March 23, 2009 effective date of the removal of duties under the January 15 modifications.

As set out in Annex I to this notice, the removal of duties on items deleted from the product list under the January 15 modifications shall be effective with respect to products that are entered, or withdrawn from warehouse, for consumption on or after March 23, 2009. Any merchandise covered under Part D of Annex I that is admitted to a U.S. foreign-trade zone on or after March 23, 2009 must be admitted in “privileged foreign status”as defined in 19 CFR 146.41. As set out in Annex II to this notice, the full January 15 modifications, including the additional duties under those modifications, shall be effective with respect to products that are entered, or withdrawn from warehouse, for consumption on or after April 23, 2009. Any merchandise covered under Part B of Annex II that is admitted to a U.S. foreign-trade zone on or after April 23, 2009 must be admitted in “privileged foreign status” as defined in 19 CFR 146.41. Questions concerning customs matters may be directed to Renee Chovanec, International Coordination, Office of International Trade, U.S. Customs and Border Protection, 202-863-6384.

The Annexes to this notice supercede and replace in full the Annex to the earlier notice published at 74 FR 4265 (Jan. 23, 2009), which initially put in place the January 15 modifications.

William Busis,
Chair, Section 301 Committee.

Annex I

A. Effective with respect to articles entered, or withdrawn from warehouse for consumption, on or after March 23, 2009, subchapter III of chapter 99 of the Harmonized Tariff Schedule of the United States (HTS) is modified by deleting the following HTS subheadings: 9903.02.31, 9903.02.33, 9903.02.35, 9903.02.36, 9903.02.37, 9903.02.38, and 9903.02.47.

B. Effective with respect to articles entered, or withdrawn from warehouse for consumption, on or after March 23, 2009, subchapter III of chapter 99 of the Harmonized Tariff Schedule of the United States (HTS) is modified by deleting HTS subheading 9903.02.39 and the superior text thereto.

C. Effective with respect to articles entered, or withdrawn from warehouse for consumption, on or after March 23, 2009, subchapter III of chapter 99 of the Harmonized Tariff Schedule of the United States (HTS) is modified by deleting HTS subheadings 9903.02.40, 9903.02.41, and 9903.02.42 and the superior text thereto.

D. Effective with respect to articles entered, or withdrawn from warehouse for consumption, on or after March 23, 2009, the Harmonized Tariff Schedule of the United States (HTS) is modified by adding in numerical sequence the following superior text and subheading to subchapter III of chapter 99 to the HTS. The superior text and subheading are set forth in columnar format, and material in such columns is inserted in the columns of the HTS designated “Heading/Subheading”, “Article Description”, and “Rates of Duty 1-General”, respectively:

9903.02.83 | “Articles the product of Austria or France:
| Juice of any other single fruit, not elsewhere specified or included, not fortified with vitamins or minerals, unfermented and not containing added spirit, whether or not containing added sugar or other sweetening matter (provided for in subheading 2009.80.60) | 100%”

Annex II

A. Effective with respect to articles entered, or withdrawn from warehouse for consumption, on or after April 23, 2009, subchapter III of chapter 99 of the Harmonized Tariff Schedule of the United States (HTS) is modified by deleting the following HTS subheadings and the superior text thereto: 9903.02.21, 9903.02.22, 9903.02.23, 9903.02.24, 9903.02.25, 9903.02.26, 9903.02.27, 9903.02.28, 9903.02.29, 9903.02.30, 9903.02.32, 9903.02.34, 9903.02.43, 9903.02.44, 9903.02.45, 9903.02.46, and 9903.02.83.

B. Effective with respect to articles entered, or withdrawn from warehouse for consumption, on or after April 23, 2009, the Harmonized Tariff Schedule of the United States (HTS) is modified by adding in numerical sequence the following superior text and subheadings to subchapter III of chapter 99 to the HTS. The superior text and subheadings are set forth in columnar format, and material in such columns is inserted in the columns of the HTS designated “Heading/Subheading”, “Article Description”, and “Rates of Duty 1—General”, respectively:

| “Articles the product of Austria, Belgium, Bulgaria, Cyprus, Czech Republic, Denmark, Estonia, Finland, France, Germany, Greece, Hungary, Ireland, Italy, Latvia, Lithuania, Luxembourg, Malta, the Netherlands, Poland, Portugal, Romania, Slovakia, Slovenia, Spain or Sweden:
9903.02.48 | Meat of bovine animals, fresh or chilled (provided for in heading 0201):
| Articles of subheading 0201.10.05, 0201.10.10, 0201.20.02, 0201.20.04, 0201.20.06, 0201.20.10, 0201.20.30, 0201.20.50, 0201.30.02, 0201.30.04, 0201.30.06, 0201.30.10, 0201.30.30 or 0201.30.50 | 100%
9903.02.49 | Articles of subheading 0201.10.50, 0201.20.80 or 0201.30.80 | 100%
9903.02.50 | Meat of bovine animals, frozen (provided for in heading 0202):
| Articles of subheading 0202.10.05, 0202.10.10, 0202.20.02, 0202.20.04, 0202.20.06, 0202.20.10, 0202.20.30, 0202.20.50, 0202.30.02, 0202.30.04, 0202.30.06, 0202.30.10, 0202.30.30 or 0202.30.50 | 100%
9903.02.51 | Articles of subheading 0202.10.50, 0202.20.80 or 0202.30.80 | 100%
9903.02.52 | Meat of swine, fresh or chilled (provided for in subheading 0203.11, 0203.12 or 0203.19) | 100%
9903.02.53 | Carcasses and half-carcasses of swine, frozen (provided for in subheading 0203.21) | 100%
9903.02.54 | Hams, shoulders, and cuts thereof, with bone in, of swine, frozen (provided for in subheading 0203.22) | 100%
9903.02.55 | Processed meat of swine, frozen, other than carcasses and half-carcasses of swine and other than hams, shoulders, and cuts thereof, with bone in (provided for in subheading 0203.29.20) | 100%
9903.02.56 | Edible offal of bovine animals, fresh or chilled (provided for in subheading 0206.10) | 100%
9903.02.57 | Edible offal of bovine animals, frozen (provided for in subheading 0206.21, 0206.22 or 0206.29) | 100%
9903.02.58 | Meat and edible offal, of the poultry of heading 0105, fresh, chilled or frozen (provided for in heading 0207) | 100%
9903.02.59 | Hams, shoulders, and cuts thereof, with bone in, of swine, salted, in brine, dried or smoked (provided for in subheading 0210.11) | 100%
9903.02.60 | Meat of bovine animals, salted, in brine, dried or smoked (provided for in subheading 0210.20) | 100%
9903.02.61 | Meat of poultry of heading 0105, salted, in brine, dried or smoked (provided for in subheading 0210.99.20) | 100%
9903.02.62 | Roquefort cheese (provided for in subheading 0406.40.20 and 0406.40.40) | 300%
9903.02.63 | Foliage, branches and other parts of plants, without flowers or flower buds, and grasses, being goods of a kind suitable for bouquets or for ornamental purposes, fresh, dried or bleached (provided for in subheading 0604.91 or 0604.99.30) | 100%
9903.02.64 | Truffles, fresh or chilled (provided for in subheading 0709.59.10) | 100%
9903.02.65 | Rolled or flaked grains of oats (provided for in subheading 1104.12) | 100%
9903.02.66 | Grains of oats, hulled, pearled, sliced, kibbled or otherwise worked, not elsewhere specified or included (provided for in subheading 1104.22) | 100%
9903.02.67 | Sausages and similar products of beef, and food preparations based on these products, in airtight containers (provided for in subheading 1601.00.40) | 100%
9903.02.68 | Other prepared or preserved meat, meat offal or blood, of liver of any animal (provided for in subheading 1602.20) | 100%
9903.02.69 | Other prepared or preserved meat, meat offal or blood, of poultry of heading 0105 (provided for in subheading 1602.31, 1602.32, 1602.39) | 100%
9903.02.70 | Other prepared or preserved meat, meat offal or blood, of bovine animals (provided for in subheading 1602.50) | 100%
9903.02.71 | Chewing gum, whether or not sugar-coated, not containing cocoa (provided for in subheading 1704.10) | 100%
9903.02.72 | Chocolate and other food preparations containing cocoa, in blocks, slabs or bars, filled, weighing 2 kg or less each (provided for in subheading 1806.31) | 100%
9903.02.73 | Lingonberry and raspberry jams (provided for in subheading 2007.99.05) | 100%
9903.02.74 | Pears, otherwise prepared or preserved, whether or not containing added sugar or other sweetening matter or spirit, not elsewhere specified or included (provided for in subheading 2008.40) | 100%
9903.02.75 | Peaches, excluding nectarines, otherwise prepared or preserved, whether or not containing added sugar or other sweetening matter or spirit, not elsewhere specified or included (provided for in subheading 2008.70.20) | 100%
9903.02.76 | Articles the product of Finland, France, Ireland, the Netherlands or Sweden:
| Meat of swine, frozen, not processed, other than carcasses and half-carcasses of swine and other than hams, shoulders, and cuts thereof, with bone in (provided for in subheading 0203.29.40) | 100%
9903.02.77 | Articles the product of France:
| Chestnuts (Castanea spp.), fresh or dried, whether or not shelled or peeled (provided for in subheading 0802.40) | 100%
9903.02.78 | Wool grease (other than crude wool grease) and fatty substances derived from wool grease (including lanolin) (provided for in subheading 1505.00.90) | 100%
9903.02.79 | Articles the product of Austria, Cyprus, France or Poland:
| Grape juice (including grape must), not fortified with vitamins or minerals, unfermented and not containing added spirit, whether or not containing added sugar or other sweetening matter (provided for in subheading 2009.61 or 2009.69) | 100%
9903.02.80 | Juice of any other single fruit, not elsewhere specified or included, not fortified with vitamins or minerals, unfermented and not containing added spirit, whether or not containing added sugar or other sweetening matter (provided for in subheading 2009.80.60) | 100%
9903.02.81 | Mixtures of juices, other than mixtures of vegetable juices, not fortified with vitamins or minerals, unfermented and not containing added spirit, whether or not containing added sugar or other sweetening matter (provided for in subheading 2009.90.40) | 100%
9903.02.82 | Articles the product of Italy:
| Mineral waters and aerated waters, not containing added sugar or other sweetening matter nor flavored (provided for in subheading 2201.10) | 100%”

[FR Doc. E9-5933 Filed 3-17-09; 8:45 am]

BILLING CODE 3190-W9-P